DEPARTMENT OF ENERGY

Federal Energy Regulatory Commission

Combined Notice of Filings #1

June 1, 2007.

Take notice that the Commission received the following electric corporate filings:

Docket Numbers: EC07-98-000.

Applicants: James A. Goodman.

Description: Brick Power Holdings LLC submits an application requesting authorization and approval to transfer existing control over assets to himself in his anticipated capacity as the sole Managing Member.

Filed Date: 05/24/2007.

Accession Number: 20070531-0127.

Comment Date: 5 p.m. Eastern Time on Thursday, June 14, 2007.

Docket Numbers: EC07-99-000.

Applicants: Great Plains Energy Incorporated, Kansas City Power & Light Company, Aquila, Inc., and Black Hills Corporation.

Description: Great Plains Energy Inc., et al request for approval of a two-step transaction in which Aquila will sell its jurisdictional electric utility assets located in Colorado.

Filed Date: 05/25/2007.

Accession Number: 20070531-0175.

Comment Date: 5 p.m. Eastern Time on Friday, June 15, 2007.

Take notice that the Commission received the following electric rate filings:

Docket Numbers: ER07-576-001.

Applicants: Baltimore Gas and Electric Company.

Description: Baltimore Gas and Electric Company submits its responses to the information requested in FERC's Deficiency Letter dated 5/4/07.

Filed Date: 05/25/2007.

Accession Number: 20070531-0085.

Comment Date: 5 p.m. Eastern Time on Friday, June 15, 2007.

Docket Numbers: ER07-939-000.

Applicants: Columbia Utilities Power, LLC.

Description: Columbia Utilities Power, LLC's Petition for Acceptance of Initial Tariff, Waivers and Blanket Authority, FERC Electric Tariff, Original Volume No.1.

Filed Date: 05/25/2007.

Accession Number: 20070530-0121.

Comment Date: 5 p.m. Eastern Time on Friday, June 15, 2007.

Docket Numbers: ER07-941-000.

Applicants: Pacific Gas and Electric Company.

Description: Pacific Gas and Electric Company submits notice of termination of the revised Service Agreement for Wholesale Distribution Service and Letter Agreement with Modesto Irrigation District.

Filed Date: 05/25/2007.

Accession Number: 20070530-0135.

Comment Date: 5 p.m. Eastern Time on Friday, June 15, 2007.

Docket Numbers: ER07-942-000.

Applicants: ISO New England Inc., New England Power Pool.

Description: ISO New England Power Pool Participants Committee et al submits its Market Rule 1 changes relating to support payments for the cost of Internet Based Communication System etc.

Filed Date: 05/29/2007.

Accession Number: 20070531-0101.

Comment Date: 5 p.m. Eastern Time on Tuesday, June 19, 2007.

Docket Numbers: ER07-943-000.

Applicants: Black Hills Power, Inc., Cheyenne Light Fuel & Power Company.

Description: Black Hills Power Inc and Cheyenne Light, Fuel and Power Co submit a Generation Dispatch and Energy Management Agreement.

Filed Date: 05/29/2007.

Accession Number: 20070531-0102.

Comment Date: 5 p.m. Eastern Time on Tuesday, June 19, 2007.

Docket Numbers: ER07-944-000, ER07-945-000.

Applicants: Florida Power & Light Company, FPL Energy Power Marketing, Inc.

Description: Florida Power & Light Co and FPL Energy Power Marketing, Inc submits proposed amendments to their market based rate tariffs.

Filed Date: 05/29/2007.

Accession Number: 20070531-0099.

Comment Date: 5 p.m. Eastern Time on Tuesday, June 19, 2007.

Docket Numbers: ER07-946-000.

Applicants: Westar Energy, Inc.

Description: Westar Energy, Inc submits Second Revised Sheet No. 1 et al. of First Revised Rate Schedule FERC No. 226 with the City of Holton, Kansas.

Filed Date: 05/29/2007.

Accession Number: 20070531-0093.

Comment Date: 5 p.m. Eastern Time on Tuesday, June 19, 2007.

Docket Numbers: ER07-947-000.

Applicants: Westar Energy, Inc.

Description: Westar Energy, Inc submits Second Revised Sheet No. 1 and First Revised Sheet No. 4 of First Revised Rate Schedule No. 235, a Wholesale Electric Service Agreement with the City of Sabetha, Kansas.

Filed Date: 05/29/2007.

Accession Number: 20070531-0097.

Comment Date: 5 p.m. Eastern Time on Tuesday, June 19, 2007.

Docket Numbers: ER07-948-000.

Applicants: Westar Energy, Inc.

Description: Westar Energy, Inc submits Second Revised Sheet No. 1 et al. of First Revised FERC Rate Schedule No. 211, a Wholesale Electric Service Agreement with the City of Minneapolis, Kansas.

Filed Date: 05/29/2007.

Accession Number: 20070531-0098.

Comment Date: 5 p.m. Eastern Time on Tuesday, June 19, 2007.

Docket Numbers: ER07-949-000.

Applicants: Westar Energy, Inc.

Description: Westar Energy, Inc on behalf of Kansas Gas and Electric Co submits Third Revised Sheet No.1 et al of Rate Schedule FERC No. 152 with Missouri Public Service Co.

Filed Date: 05/25/2007.

Accession Number: 20070531-0100.

Comment Date: 5 p.m. Eastern Time on Friday, June 15, 2007.

Docket Numbers: ER07-950-000.

Applicants: Saracen Energy MB L.P.

Description: Saracen Energy MB, LP submits petition for acceptance of initial rate schedule, waivers, and blanket authorization.

Filed Date: 05/25/2007.

Accession Number: 20070531-0094.

Comment Date: 5 p.m. Eastern Time on Friday, June 15, 2007.

Docket Numbers: ER07-951-000.

Applicants: Southern California Edison Company.

Description: Southern California Edison Company submits revised sheets to the Sunkist Wholesale Distribution Load Interconnection Facilities Agreement and the Service Agreement for Wholesale Distribution Service.

Filed Date: 05/25/2007.

Accession Number: 20070531-0095.

Comment Date: 5 p.m. Eastern Time on Friday, June 15, 2007.

Docket Numbers: ER07-952-000.

Applicants: Maine Public Service Company.

Description: Maine Public Service Company submits proposed revisions to its FERC OATT to reflect minor ministerial modifications to the sheets used to calculate the open access transmission charges.

Filed Date: 05/25/2007.

Accession Number: 20070531-0096.

Comment Date: 5 p.m. Eastern Time on Friday, June 15, 2007.

Docket Numbers: ER07-954-000.

Applicants: American Transmission Company, LLC.

Description: American Transmission Company LLC submits an executed and amended Distribution-Transmission Interconnection Agreement with the City of Menasha dated 10/19/06.

Filed Date: 05/25/2007.

Accession Number: 20070531-0104

Comment Date: 5 p.m. Eastern Time on Friday, June 15, 2007.

Docket Numbers: ER96-2495-029, ER97-4143-017, ER97-1238-024, ER98-2075-023, ER98-542-019.

Applicants: AEP Power Marketing Inc AEP Service Corporation; AEP Energy Partners, LP; CSW Energy Services, Inc. Central; and South West Services, Inc.

Description: AEP Power Marketing, Inc et al submit notice of Change in Status in connection with their authority to make sales at negotiated market-based rates.

Filed Date: 05/25/2007.

Accession Number: 20070531-0125.

Comment Date: 5 p.m. Eastern Time on Friday, June 15, 2007.

Docket Numbers: ER99-3426-007.

Applicants: San Diego Gas & Electric Company.

Description: San Diego Gas & Electric Company submits a notice of change in status in connection with a net increase in its generation capacity pursuant to section 35.27(c) of FERC's Regulations.

Filed Date: 05/30/2007.

Accession Number: 20070531-0086.

Comment Date: 5 p.m. Eastern Time on Wednesday, June 20, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Kimberly D. Bose,
Secretary.

[FR Doc. E7-10995 Filed 6-6-07; 8:45 am]

BILLING CODE 6717-01-P